DEPARTMENT OF THE INTERIOR

Bureau of Reclamation

[FES 02-18]

American River Pump Station Project, Placer County, California

AGENCY: Bureau of Reclamation, Interior.

ACTION: Notice of availability of the Final Environmental Impact Statement/ Environmental Impact Report (EIS/EIR).

SUMMARY: The Bureau of Reclamation (Reclamation) and the Placer County Water Agency (PCWA) have prepared a Final EIS/EIR for the American River Pump Station Project.

The proposed project would develop a pump station and related facilities on the North Fork American River near Auburn, California. The project would allow PCWA to convey its Middle Fork Project water entitlement to the Auburn Ravine tunnel to meet demands within its service area, eliminate safety concerns associated with the Auburn Dam construction bypass tunnel, restore the dewatered portion of the North Fork American River at the Auburn Dam construction site, and provide public river access in the project area. Both facilities and diversion-related impacts are addressed in the Draft EIS/EIR.

Notice of the Draft EIS/EIR was published in the Federal Register on September 13, 2001 (66 FR 47685). The public hearing was held on October 11, 2001. The written comment period ended December 13, 2001. The Final EIS/EIR contains responses to all comments received and changes made to the text of the Draft EIS/EIR as a result of those comments.

DATES: Reclamation will not make a decision on the proposed action until 30 days after release of the Final EIS/EIR. After the 30-day waiting period, Reclamation will complete a Record of Decision (ROD). The ROD will state the action that will be implemented and will discuss all factors leading to the decision.

ADDRESSES: Copies of the Final EIS/EIR in hard copy or on CD may be requested from Ms. Carol Brown, Surface Water Resources, Inc., at (916) 563-6360. The document can also be viewed on Reclamation's web page at http://www.mp.usbr.gov/F_projects.html.

See Supplementary Information section for locations where copies of the Final EIS/EIR are available for public inspection.

FOR FURTHER INFORMATION CONTACT: Mr. Roderick Hall, Reclamation, at (916) 989-7279, TDD (916) 989-7285, or e-mail rhall@mp.usbr.gov; or Mr. Brent Smith, PCWA, at (530) 823-4886.

SUPPLEMENTARY INFORMATION: Copies of the Final EIS/EIR are available for public inspection and review at the following locations:

• Auburn-Placer County Library, 350 Nevada Street, Auburn, CA 95603

• El Dorado County Main Library, 345 Fair Lane, Placerville, CA 95667

• Georgetown Divide Public Utility District, 6425 Main Street, Georgetown, CA 95634

• Lincoln Library, 590 5th Street, Lincoln, CA 95648

• Loomis Branch Library, 6050 Library Drive, Loomis, CA 95650

• Penryn Library, 2215 Rippey Road, Penryn, CA 95663

• Placer County Water Agency, 144 Ferguson Road, Auburn, CA 95604

• Rocklin Library, 5460 5th, Rocklin, CA 95677

• Sacramento Public Library, 828 I Street, Sacramento, CA 95814

• Bureau of Reclamation, 7794 Folsom Dam Road, Folsom, CA 95630

• Bureau of Reclamation, Denver Office Library, Building 67, Room 167, Denver Federal Center, 6th and Kipling, Denver, CO 80225, telephone: (303) 445-2072

• Bureau of Reclamation, Office of Public Affairs, 2800 Cottage Way, Sacramento, CA 95825-1898, telephone (916) 978-5100

• Natural Resources Library, U.S. Department of the Interior, 1849 C Street, NW., Main Interior Building, Washington, DC 20240-0001

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses available for public disclosure in their entirety.

Dated: June 3, 2002.
Kirk C. Rodgers,
Regional Director.

[FR Doc. 02-15525 Filed 6-19-02; 8:45 am]

BILLING CODE 4310-MN-P